DEPARTMENT OF HOMELAND SECURITY

Coast Guard

33 CFR Part 165

[Docket No. USCG-2021-0388]

Safety Zone; Commencement Bay, Tacoma, WA

AGENCY: Coast Guard, DHS.

ACTION: Notice of enforcement of regulation.

SUMMARY: The notice of enforcement of regulation published May 5, 2021 in the Federal Register, is rescinded and replaced by this notice of enforcement of regulation. The Coast Guard will enforce safety zone regulations for the Tacoma Freedom Fair Air Show on Commencement Bay from 2 p.m. on July 2 through 12:30 a.m. on July 4, 2021. This action is necessary to ensure the safety of the public from inherent dangers associated with the annual aerial displays. During the enforcement periods, no person or vessel may enter or transit this safety zone unless authorized by the Captain of the Port Sector Puget Sound or her designated representative.

DATES: The regulations in 33 CFR 165.1305 will be enforced from 2 p.m. on July 2 through 12:30 a.m. on July 4, 2021.

FOR FURTHER INFORMATION CONTACT: If you have questions about this notice of enforcement, call or email Lieutenant Peter J. McAndrew, Sector Puget Sound Waterways Management Division, U.S. Coast Guard; telephone 206-217-6045, email SectorPugetSoundWWM@uscg.mil.

SUPPLEMENTARY INFORMATION: The notice of enforcement of regulation in docket number USCG-2021-0304 is rescinded and replaced by this notice of enforcement of regulation. The Coast Guard is amending the enforcement period and will now enforce the safety zone in 33 CFR 165.1305 from 2 p.m. on July 2 through 12:30 a.m. on July 4, 2021 unless the COTP of Puget Sector Sound grants general permission to enter the regulated area during these stated enforcement periods. This action is being taken to provide for the safety of life on navigable waterways during the aerial demonstrations above the waterway.

The safety zone resembles a rectangle protruding from the shoreline along Ruston Way and will be marked by the event sponsor. The specific coordinates of the safety zone location are listed in 33 CFR 165.1305.

As specified in § 165.1305(c), during the enforcement periods, no vessel may transit the regulated area without approval from the COTP or a COTP designated representative. The COTP may be assisted by other federal, state, and local law enforcement agencies in enforcing this regulation.

In addition to this notice of enforcement in the Federal Register, the Coast Guard plans to provide notification of this enforcement period via the Local Notice to Mariners, marine information broadcasts during the day of the event. If the COTP determines that the safety zone need not be enforced for the full duration stated in the notice of enforcement, he may use a Broadcast Notice to Mariners to grant general permission to enter the regulated area.

Dated: May 27, 2021.
P.M. Hilbert,
Captain, U.S. Coast Guard, Captain of the Port Sector Puget Sound.

[FR Doc. 2021-11882 Filed 6-4-21; 8:45 am]

BILLING CODE 9110-04-P